UNITED STATES AFRICAN DEVELOPMENT FOUNDATION

Public Quarterly Meeting of the Board of Directors

AGENCY: United States African Development Foundation.

ACTION: Notice of meeting.

SUMMARY: The U.S. African Development Foundation (USADF) will hold its quarterly meeting of the Board of Directors to discuss the agency's programs and administration. This meeting will occur at the USADF office.

DATES: The meeting date is Tuesday, March 4, 2025, 9 a.m. to 10 a.m.

ADDRESSES: The meeting location is USADF, 1400 I St. NW, Suite 1000, Washington, DC 20005.

FOR FURTHER INFORMATION CONTACT: Kerline Perry, (202)233-8805.

Authority: Public Law 96-533 (22 U.S.C. 290h).

Dated: February 24, 2025.
Wendy Carver,
Business Manager.

[FR Doc. 2025-03326 Filed 2-28-25; 8:45 am]

BILLING CODE 6117-01-P